DEPARTMENT OF COMMERCE

International Trade Administration

[A-580-807]

Polyethylene Terephthalate Film, Sheet, and Strip from the Republic of Korea: Extension of the Time Limit for the Preliminary Results of the 2007/2008 Administrative Review

AGENCY: Import Administration, International Trade Administration, Department of Commerce

EFFECTIVE DATE: February 23, 2009.

FOR FURTHER INFORMATION CONTACT: Michael J. Heaney or Robert James, AD/CVD Operations, Office 7, Import Administration, International Trade Administration, U.S. Department of Commerce, 14th Street and Constitution Avenue, N.W., Washington, DC 20230; telephone: (202) 482-4475 or (202) 482-0649, respectively.

SUPPLEMENTARY INFORMATION:

Background

On June 5, 1991, the Department of Commerce (Department) published in the Federal Register an antidumping duty order on polyethylene terephthalate film, sheet, and strip (PET film) from the Republic of Korea (“Korea”). See Antidumping Duty Order and Amendment to Final Determination of Sales at Less Than Fair Value: Polyethylene Terephthalate Film, Sheet, and Strip from the Republic of Korea, 56 FR 25669 (June 5, 1991). The Department received timely requests from Kolon Industries Inc. (Kolon) and from DuPont Teijin Films, Mitsubishi Polyester Film, Inc., and Toray Plastics America Inc. (collectively, the petitioners), in accordance with 19 CFR 351.213(b)(2), for an administrative review of the antidumping duty order on PET film from Korea covering Kolon's sales for the period October 2, 2007, through May 31, 2008. On July 30, 2008, the Department initiated an administrative review with respect to Kolon. See Initiation of Antidumping and Countervailing Duty Administrative Reviews, Request for Revocation in Part, and Deferral of Administrative Review, 73 FR 44220 (July 30, 2008).

The deadline for completion of the preliminary results in this administrative review is currently March 2, 2009.

Extension of Time Limits for Preliminary Results

Section 751(a)(3)(A) of the Tariff Act of 1930, as amended (the Act), and 19 CFR 351.213(h)(1) require the Department to issue the preliminary results of an administrative review within 245 days after the last day of the anniversary month of the order or suspension agreement for which the administrative review was requested, and the final results of the review within 120 days after the date on which the notice of the preliminary results was published in the Federal Register. However, if the Department determines that it is not practicable to complete the review within this time period, section 751(a)(3)(A) of the Act and 19 CFR 351.213(h)(2) allow the Department to extend the 245-day period to 365 days and the 120-day period to 180 days.

Pursuant to section 751(a)(3)(A) of the Act and 19 CFR 351.213(h), we determine that it is not practicable to complete this administrative review within the statutory time limit of 245 days. The Department requires additional time to analyze Kolon's questionnaire responses, and issue supplemental questionnaires. In particular, there are complex issues concerning Kolon's reported cost of production and U.S. sales that the Department requires additional time to analyze. Therefore, in accordance with section 751(a)(3)(A) of the Act and 19 CFR 351.213(h)(2), the Department is extending the time limit for the completion of these preliminary results by 120 days. Therefore, the new deadline for completion of this review is June 30, 2009. The final results, in turn, will be due 120 days after the date of issuance of the preliminary results, unless extended.

This notice is published in accordance with sections 751(a)(3)(A) and 777(i) of the Act.

Dated: February 17, 2009.
John M. Andersen,
Acting Deputy Assistant Secretary for Antidumping and Countervailing Duty Operations.

[FR Doc. E9-3791 Filed 2-20-09; 8:45 am]

BILLING CODE 3510-DS-S